DEPARTMENT OF THE TREASURY

Proposed Collection; Comment Request

September 22, 2005.

The Department of the Treasury, as part of its continuing effort to reduce paperwork and respondent burden, invites the general public and other Federal agencies to take this opportunity to comment on proposed and/or continuing information collections, as required by the Paperwork Reduction Act of 1995, Public Law 104-13. Currently, the Office of the Procurement Executive within the Department of the Treasury is soliciting comments concerning the OMB Control Number 1505-0107, Regulation on Agency Protests. Comments regarding this information collection should be addressed to the Treasury Department Clearance Officer, Department of the Treasury, Office of the Procurement Executive, 1500 Pennsylvania Avenue, NW., Washington, DC 20220, (202) 622-6760.

DATES: Written comments should be received on or before November 28, 2005 to be assured of consideration.

Departmental Offices (DO)

OMB Number: 1505-0107.

Form Number: Not applicable.

Type of Review: Extension of a currently approved collection.

Title: Regulation on Agency Protests.

Description: This notice provides a request to continue including the designated OMB Control Number on information requested from contractors. The information is requested from contractors so that the Government will be able to evaluate protests effectively and provide prompt resolution of issues to dispute when contractors file agency level protests.

Current Actions: There are no changes being made to the notice at this time.

Respondents: Businesses and individuals seeking and who are currently contracting with the Department of the Treasury.

Estimated Number of Respondents: 23.

Estimated Total Burden Hours: 46.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchases of services to provide information.

Clearance Officer: Jean Carter (202) 622-6760, Department of the Treasury, Office of the Procurement Executive, 1500 Pennsylvania Avenue, NW., Washington, DC 20220, jean.carter@do.treas.gov.

Thomas A. Sharpe, Jr.,
Senior Procurement Executive and Deputy Chief Acquisition Officer, U.S. Department of the Treasury, 1500 Pennsylvania Avenue, NW., Washington, DC 20220.

[FR Doc. 05-19334 Filed 9-27-05; 8:45 am]

BILLING CODE 4810-25-P